DEPARTMENT OF THE INTERIOR

Bureau of Land Management

[ID 100 1220MA 241A: DBG081009]

Notice of Public Meeting: Resource Advisory Council to the Boise District, Bureau of Land Management, U.S. Department of the Interior

AGENCY: Bureau of Land Management, U.S. Department of the Interior.

ACTION: Notice of Public Meeting.

SUMMARY: In accordance with the Federal Land Policy and Management Act (FLPMA) and the Federal Advisory Committee Act of 1972 (FACA), the U.S. Department of the Interior, Bureau of Land Management (BLM) Boise District Resource Advisory Council (RAC), will hold a meeting as indicated below.

DATES: The meeting will be held July 18, 2008, departing the Boise District Offices at 8 a.m. and returning by 4 p.m. The meeting will be a day-long field trip to various sites in the Owyhee Field Office. Members of the public are invited to attend, and comment periods will be held during the course of the field day.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. RAC members will be looking at areas of interest included in the Travel Management Plans for Wilson Creek and Reynolds Creek sub-regions located in the Owyhee Field Office. There will be briefings provided updating wind energy proposals. Representatives of the Thunder Mountain Mining Company have also been invited to provide a briefing on plans to develop their South Mountain Mine in the Owyhees. Hot Topics will be discussed by the District Manager, and Field Office managers will provide highlights on activities in their offices. Agenda items and location may change due to changing circumstances. All meetings are open to the public. The public may present written comments to the Council. Each formal Council meeting will also have time allocated for hearing public comments. Depending on the number of persons wishing to comment and time available, the time for individual oral comments may be limited. Individuals who plan to attend and need special assistance, such as sign language interpretation, or other reasonable accommodations, should contact the BLM Coordinator as provided above.

Dated: June 10, 2008.
David Wolf,
Associate, District Manager.

[FR Doc. E8-13693 Filed 6-17-08; 8:45 am]

BILLING CODE 4310-GG-P